DEPARTMENT OF ENERGY

Federal Energy Regulatory Commission

[Docket No. OR00-11-000]

EOTT Energy Operating Limited Partnership, Complainant v. Conoco Pipe Line Company, Respondent; Notice of Filing

September 18, 2000.

Take notice that on September 14, 2000, EOTT Energy Operating Limited Partnership (EOTT), tendered for filing a complaint, pursuant to Rule 385.206 of the Commission's Rules of Practice and Procedure and Section 13 of the Interstate Commerce Act, against Conoco Pipe Line Company (CPL) requesting that the Commission order CPL to publish a fair and non-discriminatory proration policy in its FERC tariffs number 117 and 306. Because CPL's continuing course of action is adversely affecting EOTT's ability to use CPL's common carrier services, EOTT requests fast track processing of its complaint by the Commission pursuant to Section 385.206(h) of the Commission's Rules of Practice and Procedure.

Copies of the filing were served via facsimile and courier to CPL. Questions concerning this Complaint may be directed to Complainant's General Counsel, P.O. Box 4666, Houston, Texas 77210-4666, Phone (713) 993-5671, Fax (713) 402-2875.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before September 25, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Answers to the complaint shall also be due on or before September 25, 2000.

David P. Boergers,
Secretary.

[FR Doc. 00-24395 Filed 9-21-00; 8:45 am]

BILLING CODE 6717-01-M